Title 3—

The President

Proclamation 10674 of November 15, 2023

National Rural Health Day, 2023

By the President of the United States of America

A Proclamation

America's rural communities are indispensable to who we are as a Nation, where over 60 million people who live in rural America fuel our economy and help forge our future. On National Rural Health Day, we recommit to investing in rural communities and delivering affordable, quality health care so that generations of rural Americans can thrive.

No one should have to lie awake at night wondering if they can afford or access health care for their family, but that is the reality for so many in rural America. Rural Americans are more likely to live in poverty, be older, and have disabilities while also having fewer health care providers within reach. We know that when rural Americans do not have the chance to thrive in their local economy, they leave home in search of opportunity elsewhere. When they do, small businesses, schools, and rural hospitals suffer, and the services and support systems people need to succeed disappear. Since 2010, over 150 rural hospitals have either closed down or stopped providing in-patient care, damaging rural economies where hospitals are often one of the largest employers and leaving families scrambling for health care.

When I came into office, I was committed to investing in rural America, starting with the health and well-being of its residents. Our American Rescue Plan directed $8.5 billion to rural providers so they could keep hospitals and clinics open during the pandemic. We also supported the establishment of a new Rural Emergency Hospital designation, which provides struggling rural hospitals with a new option for maintaining a presence within the community. We have provided $1.5 billion in scholarships and student loan assistance for rural clinicians and nurses so that medical personnel can fill these critical roles.

My Administration has also worked to modernize and support rural health care facilities by providing millions of dollars to provide direct health services, expand infrastructure, and supply technical assistance to rural hospitals facing financial distress. Further, we have made historic investments in the expansion of rural broadband and services that can be delivered via telehealth to Medicare beneficiaries.

We are also tackling some of the health crises that impact rural communities by working to improve maternal health, address the mental health crisis, and beat the opioid epidemic. My Administration's Blueprint for Addressing the Maternal Health Crisis lays out our vision for making America the best country in the world to have a baby. Expanding mental health and substance use disorder services remains a core pillar of my Unity Agenda. That is why we are recruiting, training, and supporting more providers across the country as part of the largest-ever investment in these types of programs.

Additionally, we are investing in the next generation of rural Americans, fighting for a future where all children have the resources they need to live full and healthy lives. That is why my Administration released a national strategy to end hunger and reduce diet-related diseases in America by 2030—including advancing a pathway to provide free, healthy school meals for all children. We are also working to support schools in sourcing more local food for on-campus meals, bringing new revenue to farms and increased economic development in rural communities.

At the same time, we are lowering health care costs for every American, no matter their zip code. We expanded health care coverage through the Affordable Care Act, saving millions of families up to $800 a year on their health care premiums. I also signed the Inflation Reduction Act, which capped the cost of insulin at $35 per month for people with Medicare. The Inflation Reduction Act also empowered Medicare to negotiate lower drug prices for the first time in American history. The first ten drugs Medicare selected for negotiation treat everything from blood clots to cancer and are used by nine million people. Building on this progress, we are also requiring prescription drug companies to reimburse Medicare if they raise prices for seniors at a higher rate than inflation, which will save some seniors as much as $618 on every dose of their medication.

Finally, my Administration is implementing historic legislation that will help rural Americans find more opportunities in their hometowns. Through my Bipartisan Infrastructure Law, rural Americans are being hired to rebuild safer bridges, roads, and highways in their own communities and to bring clean water, clean energy, and high-speed internet to their neighbors. Companies are investing hundreds of billions of dollars to create thousands of jobs across America—including rural America—and are manufacturing more products in rural communities.

I have often said that health care is a right, not a privilege. On National Rural Health Day, we recommit to this principle and to putting affordable, quality health care within reach of all rural Americans.

NOW, THEREFORE, I, JOSEPH R. BIDEN JR., President of the United States of America, by virtue of the authority vested in me by the Constitution and the laws of the United States, do hereby proclaim November 16, 2023, as National Rural Health Day. I call upon the people of the United States to reaffirm our dedication to the health and well-being of rural America.

IN WITNESS WHEREOF, I have hereunto set my hand this fifteenth day of November, in the year of our Lord two thousand twenty-three, and of the Independence of the United States of America the two hundred and forty-eighth.

[FR Doc. 2023-25743

Filed 11-17-23; 8:45 am]

Billing code 3395-F4-P